DEPARTMENT OF AGRICULTURE

Forest Service

Hiawatha East Resource Advisory Committee

AGENCY: Forest Service, USDA.

ACTION: Notice of meetings.

SUMMARY: The Hiawatha East Resource Advisory Committee will meet in Kincheloe, Michigan. The committee is meeting as authorized under the Secure Rural Schools and Community Self-Determination Act (Pub. L. 112-141) and in compliance with the Federal Advisory Committee Act. The purpose of the committee is to improve collaborative relationships and to provide advice and recommendations to the Forest Service concerning projects and funding consistent with the title II of the Act. The meetings are open to the public. The purpose of the meetings is to review and vote to recommend projects authorized under title II of the Act.

DATES: The meetings will be held on September 24, 2012, and September 26, 2012, and both will begin at 6:00 p.m.

ADDRESSES: The meetings will be held at Chippewa County 911 Center, 4657 West Industrial Park Drive, Kincheloe, MI. Written comments may be submitted as described under SUPPLEMENTARY INFORMATION. All comments, including names and addresses when provided, are placed in the record and are available for public inspection and copying.

FOR FURTHER INFORMATION CONTACT: Janel Crooks, RAC Coordinator, USDA, Hiawatha National Forest, 820 Rains Drive, Gladstone, Michigan 49837; (906) 428-5829; Email HiawathaNF@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The following business will be conducted: (1) Update regarding implementation of 2008-2011 Projects; (2) Secure Rural Schools 2012 Update; (3) Review and discussion of proposals for 2012; (4) Public Comment. Persons who wish to bring related matters to the attention of the Committee may file written statements with the Committee staff before or after the meeting. The agenda will include time for people to make oral statements of three minutes or less. Individuals wishing to make an oral statement should request in writing by September 14, 2012, to be scheduled on the agenda. Written comments and requests for time for oral comments must be sent to Hiawatha National Forest; attn RAC; 820 Rains Drive, Gladstone, MI 49837, or by email to HiawathaNF@fs.fed.us or via facsimile to 906-428-9030 A summary of the meeting will be posted at https://fsplaces.fs.fed.us/fsfiles/unit/wo/secure_rural_schools.nsf/Web_Agendas?OpenView&Count=1000&RestrictToCategory=Hiawatha%2BEast%2BResource%2BAdvisory%2BCommittee within 21 days of the meeting.

Meeting Accommodations: If you are a person requiring reasonable accommodation, please make requests in advance for sign language interpreting, assistive listening devices or other reasonable accomodation for access to the facility or procedings by contacting the person listed under FOR FURTHER INFORMATION CONTACT. All reasonable accommodation requests are managed on a case by case basis.

Dated: August 8, 2012.
Stevan Christiansen,
Designated Federal Official.

[FR Doc. 2012-19901 Filed 8-13-12; 8:45 am]

BILLING CODE 3410-11-P